DEPARTMENT OF TRANSPORTATION

Federal Highway Administration

Notice of Availability of the Finding of No Significant Impact for the I-84/US-89 Interchange Reconstruction in Utah and Final Federal Agency Actions

AGENCY: Federal Highway Administration (FHWA), Department of Transportation.

ACTION: Notice of availability and notice of limitations on claims for judicial review of actions.

SUMMARY: The FHWA, on behalf of UDOT, is issuing this notice to announce the availability of the Finding of No Significant Impact (FONSI) for the Interstate 84 (I-84)/US-89 Interchange Reconstruction in South Weber City, Uintah City, and South Ogden City, in Weber and Davis Counties, Utah. In addition, this notice is being issued to announce actions taken by UDOT that are final Federal agency actions related to the project referenced above. Those actions grant licenses, permits and/or approvals for the project. The Finding of No Significant Impact (FONSI) provides details on the Selected Alternative for the proposed improvements.

DATES: This decision became operative on October 11, 2024. By this notice, FHWA, on behalf of UDOT, is advising the public of final agency actions subject to 23 U.S.C. 139(l)(1). A claim seeking judicial review of the Federal agency actions on the highway project will be barred unless the claim is filed on or before April 4, 2025. If the Federal law that authorizes judicial review of a claim provides a time period of less than 150 days for filing such claim, then that shorter time period still applies.

FOR FURTHER INFORMATION CONTACT: Tyler Allen, Environmental Program Manager, UDOT Environmental Services, P.O. Box 143600, Salt Lake City, UT 84114; (801) 997-0080; email: tylerallen@utah.gov. UDOT's normal business hours are 8 a.m. to 5 p.m. (mountain time zone), Monday through Friday, except State and Federal holidays.

SUPPLEMENTARY INFORMATION: The environmental review, consultation, and other actions required by applicable Federal environmental laws for this action are being, or have been, carried out by UDOT pursuant to 23 U.S.C. 327 and a Memorandum of Understanding (MOU) dated May 26, 2022, and executed by FHWA and UDOT. Actions taken by UDOT on FHWA's behalf pursuant to 23 U.S.C. 327 constitute Federal agency actions for purposes of Federal law. Notice is hereby given that UDOT has taken final agency actions subject to 23 U.S.C. 139(l)(1) by issuing licenses, permits, and/or approvals for the I-84/US-89 Interchange Reconstruction project in the State of Utah.

The project proposes to reconstruct and reconfigure the I-84/US-89 interchange, constructing a bypass route on US-89 from South Weber Drive (SR-60) to Skyline Drive, constructing a flyover for southbound Harrison Boulevard (SR-203) to US-89, and to improve multimodal transportation networks in the area. The purpose of the project is to provide better mobility by addressing current and future travel demand, improve safety and operations, improve multimodal connectivity routes and support the local economy by preserving local access.

These improvements were identified in the Environmental Assessment (EA) prepared for the project by UDOT as the Proposed Action. The project is identified in UDOT's adopted 2025-2030 State Transportation Improvement Program as project number 19507 with funding identified for final design and construction. The project is also included in the Wasatch Front Regional Council (WFRC) 2023-2050 Regional Transportation Plan approved in May 2024 (latest amendment August 2024) and the WFRC 2024-2029 Transportation Improvement Plan.

The actions by UDOT, and the laws under which such actions were taken, are described in the EA approved on November 21, 2023, and the FONSI (Finding of No Significant Impact for I-84/US-89 Interchange Reconstruction Road in Weber and Davis Counties, Utah, Project No. S-I84-6(146)87) approved on October 11, 2024, and other documents in the project records. The EA and FONSI are available for review by contacting UDOT at the address provided above. In addition, these documents can be viewed and downloaded from the project website at https://udotinput.utah.gov/84-89interchange. This notice applies to the EA, the FONSI, the section 4(f) determination, the NHPA section 106 review, the Endangered Species Act determination, the noise review and noise abatement determination, and all other UDOT and federal agency decisions and other actions with respect to the project as of the issuance date of this notice and all laws under which such actions were taken, including but not limited to the following laws (including their implementing regulations):

1. General: National Environmental Policy Act [42 U.S.C. 4321-4370m-12]; Federal-Aid Highway Act [23 U.S.C. 109 and 23 U.S.C. 128]; 23 U.S.C. 139.

2. Air: Clean Air Act [42 U.S.C. 7401-7671(q)].

3. Land: Section 4(f) of the Department of Transportation Act of 1966 [23 U.S.C. 138 and 49 U.S.C. 303]; Landscaping and Scenic Enhancement (Wildflowers) [23 U.S.C. 319].

4. Wildlife: Endangered Species Act [16 U.S.C. 1531-1544], Fish and Wildlife Coordination Act [16 U.S.C. 661-667d]; Migratory Bird Treaty Act [16 U.S.C. 703-712]; Bald and Golden Eagle Protection Act [16 U.S.C. 668-668d].

5. Historic and Cultural Resources: National Historic Preservation Act of 1966, as amended [54 U.S.C. 300101-307108]; Archaeological Resources Protection Act of 1979 [16 U.S.C. 470aa-470mm]; Archeological and Historic Preservation Act [54 U.S.C. 312501-312508]; Native American Grave Protection and Repatriation Act [25 U.S.C. 3001-3013].

6. Social and Economic: Title VI of Civil Rights Act of 1964 [42 U.S.C. 2000d-2000d-7]; American Indian Religious Freedom Act [42 U.S.C. 1996]; Farmland Protection Policy Act [7 U.S.C. 4201-4209].

7. Wetlands and Water Resources: Clean Water Act [33 U.S.C. 1251-1389]; Coastal Zone Management Act [16 U.S.C. 1451-1465]; Land and Water Conservation Fund Act [54 U.S.C. 200301-200310]; Safe Drinking Water Act [42 U.S.C. 300(f)-300(j)(6)]; Rivers and Harbors Appropriation Act of 1899, as amended [33 U.S.C. 401-418]; Emergency Wetlands Resources Act [16 U.S.C. 3921, 3931]; Flood Disaster Protection Act [42 U.S.C. 4001-4128].

8. Hazardous Materials: Comprehensive Environmental Response, Compensation, and Liability Act [42 U.S.C. 9601-9675]; Superfund Amendments and Reauthorization Act of 1986 [42 U.S.C. 9671-9675]; Resource Conservation and Recovery Act [42 U.S.C. 6901-6992k].

9. Noise: Noise Control Act of 1972 [42 U.S.C. 4901-4918].

10. Executive Orders: E.O. 11990 Protection of Wetlands; E.O. 11988 Floodplain Management; E.O. 12898 Federal Actions to Address Environmental Justice in Minority Populations and Low-Income Populations; E.O. 11593 Protection and Enhancement of Cultural Resources; E.O. 13287 Preserve America; E.O. 13175 Consultation and Coordination with Indian Tribal Governments; E.O. 11514 Protection and Enhancement of Environmental Quality; E.O. 13112 Invasive Species; E.O. 13985 Advancing Racial Equity and Support for Underserved Communities Through the Federal Government; E.O. 13990 Protecting Public Health and the Environment and Restoring Science to Tackle the Climate Crisis; E.O. 14008 Tackling the Climate Crisis at Home and Abroad.

(Catalog of Federal Domestic Assistance Program Number 20.205, Highway Planning and Construction. The regulations implementing Executive Order 12372 regarding intergovernmental consultation on Federal programs and activities apply to this program.)

Authority: 23 U.S.C. 139 (l)(1).

Ivan Marrero,
Division Administrator, Federal Highway Administration, Salt Lake City, Utah.

[FR Doc. 2024-25632 Filed 11-4-24; 8:45 am]

BILLING CODE 4910-RY-P